DEPARTMENT OF HEALTH AND HUMAN SERVICES

Office of the Secretary

Federal Financial Participation in State Assistance Expenditures; Federal Matching Shares for Medicaid, the State Children's Health Insurance Program, and Aid to Needy Aged, Blind, or Disabled Persons for October 1, 2008 through September 30, 2009

Correction

In notice document 07-5847 beginning on page 67304 in the issue of Wednesday, November 28, 2007 make the following correction:

On page 67306, in the table, in the nineteenth line, at North Carolina, second column, “64.00” should read “64.60”.

[FR Doc. C7-5847 Filed 12-6-07; 8:45 am]

BILLING CODE 1505-01-D